DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 54 individuals whose property and interests in property have been blocked pursuant to the Foreign Narcotics Kingpin Designation Act (“Kingpin Act”) (21 U.S.C. 1901-1908, 8 U.S.C. 1182).

DATES: The designation by the Director of OFAC of the 54 individuals identified in this notice pursuant to section 805(b) of the Kingpin Act is effective on March 24, 2010.

FOR FURTHER INFORMATION CONTACT: Assistant Director, Compliance Outreach & Implementation, Office of Foreign Assets Control, Department of the Treasury, Washington, DC 20220, tel.: 202-622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On March 24, 2010, the Director of OFAC designated 54 individuals whose property and interests in property are blocked pursuant to section 805(b) of the Foreign Narcotics Kingpin Designation Act.

The list of additional designees is as follows:

Individuals:

1. SAUCEDA GAMBOA, Gregorio, Avenida Manuel M. Ponce 2404, Colonia Zaragoza, Nuevo Laredo, Tamaulipas, Mexico; Leonides Guerra No. 97 y Eugenio Lopez No. 97, Colonia San Rafael, Matamoros, Tamaulipas, Mexico; Claveles No. 320, entre Retama y Palma, Colonia Jardin, Reynosa, Tamaulipas, Mexico; Octava No. 433, entre Fuente de Diana y Boulevard Oriente Dos, Colonia Las Fuentes, Reynosa, Tamaulipas, Mexico; Calle Ciudad PEMEX, Enseguida del Numero 512, Colonia Jose de Escandon—Petrolera, Reynosa, Tamaulipas, Mexico; DOB 05 Nov 1965; Alt. DOB 05 May 1965; POB Tamaulipas, Mexico; Citizen Mexico; Nationality Mexico; C.U.R.P. SAXG651105HTSCXR07 (Mexico); Electoral Registry No. SCGMGR65110528H300 (Mexico); (INDIVIDUAL) [SDNTK]

2. GONZALEZ DURAN, Jaime, Calle Xolmon, Tampaxal, Colonia Aquismon, San Luis Potosi C.P. 79760, Mexico; DOB 22 Jan 1976; POB San Luis Potosi, Mexico; Citizen Mexico; Nationality Mexico; C.U.R.P. GODJ760122HSPNRM01 (Mexico); R.F.C. GODJ760122 (Mexico); Cartilla de Servicio Militar Nacional B8987689 (Mexico); C.U.I.P. GODJ760122H24151162 (Mexico); (INDIVIDUAL) [SDNTK]

3. TREVINO MORALES, Omar (a.k.a. TREVINO MORALES, Alejandro; a.k.a. TREVINO MORALES, Omar Alejandro; a.k.a. TREVINO MORALES, Oscar Omar); Colonia Militar, Nuevo Laredo, Tamaulipas, Mexico; Reynosa, Tamaulipas, Mexico; Coahuila, Mexico; DOB 26 Jan 1974; POB Nuevo Laredo, Tamaulipas, Mexico; Citizen Mexico; Nationality Mexico; (INDIVIDUAL) [SDNTK]

4. VELASQUEZ CABALLERO, Ivan (a.k.a. VELAZQUEZ CABALLERO, Ivan; a.k.a. VELAZQUES CABALLERO, Ivan); Calle Nuevo Leon, Colonia Riveras Del Rio, Nuevo Laredo, Tamaulipas CP88000, Mexico; Calle Belden 5936, Colonia Militar, Nuevo Laredo, Tamaulipas, Mexico; Calle Mundial 55, Nuevo Laredo, Tamaulipas, Mexico; Calle 15 Septiember y Leandro Valle, Nuevo Laredo, Tamaulipas, Mexico; Calle Veracruz 500 o 550, Colonia Electricistas, Nuevo Laredo, Tamaulipas, Mexico; Calle Lucio Blanco 1324, Colonia Militar, Nuevo Laredo, Tamaulipas, Mexico; Avenida Abasolo No. 620, Colonia Hidalgo, Seccion 770, Nuevo Laredo, Tamaulipas, Mexico; Villa Hidalgo, Coahuila, Mexico; Paseo Colon St., Nuevo Laredo, Tamaulipas, Mexico; Lago St. and La Chapalla, Nuevo Laredo, Tamaulipas, Mexico; 1418 Yucatan, Nuevo Laredo, Tamaulipas, Mexico; DOB 10 Feb 1970; POB Nuevo Laredo, Tamaulipas, Mexico; Citizen Mexico; Nationality Mexico; C.U.R.P. VECI700210HTSLBV09 (Mexico); (INDIVIDUAL) [SDNTK]

5. REJON AGUILAR, Jesus Enrique (a.k.a. REJON AGUILAR, Jose (Jesus) Enrique); Calle Hidalgo No. 6, Col. Sabancuy, Carmen, Campeche C.P. 24370, Mexico; DOB 09 Jun 1976; Alt. DOB 01 Jan 1970; POB Campeche; Citizen Mexico; Nationality Mexico; C.U.R.P. REAJ760609HCCJGS02 (Mexico); Cartilla de Servicio Militar Nacional C720867 (Mexico); C.U.I.P. REAE760609H04151249 (Mexico); (INDIVIDUAL) [SDNTK]

6. PEREZ ROJAS, Daniel (a.k.a. GONZALEZ DIAZ, Juan); Fraccionamiento Santa Isabel, Tlajomulco De Zuniga, Jalisco, Mexico; Aldea San Cristobal, Comapa, Jutiapa, Guatemala; Valle Hermoso, Tamaulipas, Mexico; Matamoros, Tamaulipas, Mexico; DOB 10 Feb 1977; Alt. DOB 28 Sep 1976; Alt. DOB 11 Feb 1977; POB Moyuta, Guanajuato, Mexico; Citizen Mexico; Nationality Mexico; Driver's License No. 1-1-22-07-00030905-3 (Guatemala) exp: 2010; Cedula No. U22-30905 (Guatemala); (INDIVIDUAL) [SDNTK]

7. MENDEZ SANTIAGO, Flavio, Mexico; DOB 11 Mar 1975; Citizen Mexico; Nationality Mexico; R.F.C. MESF750311 (Mexico); (INDIVIDUAL) [SDNTK]

8. HERNANDEZ LECHUGA, Lucio (a.k.a. HERNANDEZ LECHUGA, Raul Lucio; a.k.a. HERNANDEZ LECHUGA, Luciano); Mexico; Calle Astros 7, Col. Praxedis Balboa, Matamoros, Tamaulipas, Mexico; DOB 08 Feb 1976; POB Hidalgo, Mexico; Alt. POB Piedras Negras, Coahuila, Mexico; Citizen Mexico; Nationality Mexico; (INDIVIDUAL) [SDNTK]

9. RUIZ TLAPANCO, Sergio Enrique, Mexico; DOB 08 Oct 1972; Citizen Mexico; Nationality Mexico; R.F.C. RUTS721008 (Mexico); (INDIVIDUAL) [SDNTK]

10. RAMIREZ TREVINO, Mario (a.k.a. RAMIREZ TREVINO, Mario Armando); Tamaulipas, Mexico; Reynosa, Tamaulipas, Mexico; DOB 05 Mar 1962; POB Mexico; Citizen Mexico; Nationality Mexico; (INDIVIDUAL) [SDNTK]

11. PENA MENDOZA, Sergio (a.k.a. PENA MENDOZA, Sergio Arturo Sanchez; a.k.a. PENA SOLIS, Sergio; a.k.a. MENDOZA PENA, Sergio; a.k.a. SOLIS, Rene Carlos; a.k.a. LOPEZ, Antonio Santiago); Miguel Hidalgo 410, Concordia, Nuevo Laredo, Tamaulipas, Mexico; Calle Decima, Colonia Las Fuentes, Reynosa, Tamaulipas, Mexico; DOB 25 Jan 1973; Alt. DOB 1970; Citizen Mexico; Nationality Mexico; (INDIVIDUAL) [SDNTK]

12. FLORES BORREGO, Samuel (a.k.a. “Samuel FLORES FLORES”); Miguel Aleman, Tamaulipas, Mexico; Reynosa, Tamaulipas, Mexico; Michoacan, Mexico; DOB 06 Aug 1972; Alt. DOB 22 Aug 1977; POB Tamaulipas, Mexico; Alt. POB Distrito Federal, Mexico; Citizen Mexico; Nationality Mexico; C.U.R.P. FOBS720806HTSLRM05 (Mexico); C.U.I.P. FOFS770822H09576414 (Mexico); (INDIVIDUAL) [SDNTK]

13. MEJIA GONZALEZ, Juan Reyes, Miguel Aleman, Tamaulipas, Mexico; DOB 18 Nov 1975; POB Mier, Tamaulipas, Mexico; Citizen Mexico; Nationality Mexico; (INDIVIDUAL) [SDNTK]

14. BARRAGAN BALDERAS, Gilberto (a.k.a. “Gilberto Barragan”); Miguel Aleman, Tamaulipas, Mexico; DOB 19 May 1970; POB Miguel Aleman, Tamaulipas, Mexico; Citizen Mexico; Nationality Mexico; (INDIVIDUAL) [SDNTK]

15. CANO FLORES, Aurelio (a.k.a. SANCHEZ CASTILLO, Efrain); Miguel Aleman, Tamaulipas, Mexico; Tampico, Tamaulipas, Mexico; DOB 03 May 1972; Alt. DOB 1972; POB Tamaulipas, Mexico; Citizen Mexico; Nationality Mexico; (INDIVIDUAL) [SDNTK]

16. NAJERA TALAMANTES, Sigifredo, Dionicio Carreon 228, Colonia Alianza, Nuevo Laredo, Tamaulipas, Mexico; Monterrey, Nuevo Leon, Mexico; Coahuila, Mexico; DOB 31 Aug 1980; POB Delicias, Coahuila, Mexico; Citizen Mexico; Nationality Mexico; (INDIVIDUAL) [SDNTK]

17. RANGEL BUENDIA, Alfredo, Privada Laredo 6412, Colonia Hipodromo, Nuevo Laredo, Tamaulipas, Mexico; Calle Villareal 23, Colonia Country Club, Hermosillo, Sonora, Mexico; Calle Leonardo Valles 721, Hermosillo, Sonora, Mexico; Calle Sierra Azul 239, Hermosillo, Sonora, Mexico; DOB 23 Feb 1966; Alt. DOB 03 Nov 1986; Alt. DOB 03 Jan 1966; POB Tamaulipas, Mexico; Citizen Mexico; Nationality Mexico; C.U.R.P. RABA660223HTSNNL09 (Mexico); Electoral Registry No. RNBNAL66022328H401 (Mexico); Credencial electoral 156593459 (Mexico); Driver's License No. 724097 (Mexico); (INDIVIDUAL) [SDNTK]

18. MEDINA ROJAS, Eleazar (a.k.a. MEDINA RIOJAS, Eleazar; a.k.a. GONZALEZ MARTINEZ, Erick); Cuauhtemoc 805, Nuevo Laredo, Tamaulipas, Mexico; Diaz Miron 604, Colonia Victoria, Nuevo Laredo, Tamaulipas, Mexico; DOB 28 Jan 1972; POB Nuevo Laredo, Tamaulipas; Alt. POB Monterrey, Nuevo Leon; Citizen Mexico; Nationality Mexico; C.U.R.P. MERE720128HTSDJL07 (Mexico); (INDIVIDUAL) [SDNTK]

19. MONTES SERMENO, Juan Gabriel (a.k.a. MONTES SERMENO, Gabriel; a.k.a. MONTES, Juan Gabriel; a.k.a. MONTES ZERMENO, Gabriel); Calle Libertad No. 5, Col. San Fernando, Matamoros, Tamaulipas, Mexico; Calle Libertad No. 84, Col. San Fernando, Matamoros, Tamaulipas, Mexico; DOB 27 Oct 1973; POB Tamaulipas; Citizen Mexico; Nationality Mexico; C.U.R.P. MOSJ731027HTSNRN02 (Mexico); (INDIVIDUAL) [SDNTK]

20. DIAZ LOPEZ, Mateo, Calle Guatemala No. 5610, Colonia Hipodromo, Nuevo Laredo, Tamaulipas, Mexico; Calle Tiera Del Soconusco No. 252, Fraccionamiento Colinas Del Sur, Nuevo Laredo, Tamaulipas, Mexico; Calle Mundial No. 55, Nuevo Laredo, Tamaulipas, Mexico; Sinaloa No. 10, Kilometer 10, Nuevo Laredo, Tamaulipas, Mexico; Calle Ramiro Pena No. 829, Colonia Electricistas, Nuevo Laredo, Tamaulipas, Mexico; Calle Habana No. 2204, Colonia Americo Villarreal, Nuevo Laredo, Tamaulipas, Mexico; Veracruz No. 500 o 550, Colonia Electricistas, Nuevo Laredo, Tamaulipas, Mexico; Calle Chihuahua No. 805 0 815, Cerca de la esquina de Calle Ruiz Cortines, Nuevo Laredo, Tamaulipas, Mexico; DOB 11 Sep 1973; Alt. DOB 1974; POB Valle Hermoso, Tamaulipas; Alt. POB La Libertad, Cunduacan, Tabasco, Mexico; Alt. POB San Rafael, Tabasco, Mexico; Citizen Mexico; Nationality Mexico; (INDIVIDUAL) [SDNTK]

21. VASQUEZ MIRELES, Victor Manuel (a.k.a. VAZQUEZ MIRELES, Victor Manuel); Guadalupe, Nuevo Leon, Mexico; San Nicholas, Nuevo Leon, Mexico; Tampico, Tamaulipas, Mexico; Calle Abelardo Rodriguez, Matamoros, Tamaulipas, Mexico; DOB 03 Jun 1967; Alt. DOB 03 Jun 1977; POB Tamaulipas, Mexico; Alt. POB Mexico; Citizen Mexico; Nationality Mexico; C.U.R.P. VAMV670603HTSZRC06 (Mexico); (INDIVIDUAL) [SDNTK]

22. GONZALEZ PIZANA JR., Rogelio (a.k.a. GONZALEZ GARZA, Rolando; a.k.a. PIZANA GONZALEZ, Rogelio; a.k.a. GONZALEZ PIZANA, Rogelio Kak, Jr.); Matamoros, Tamaulipas, Mexico; Carretera A La Playa El Huizachal, Valle Hermoso, Tamaulipas, Mexico; Fraccionamiento Valle De Aguayo, 9th Street and Quintana Roo No. 3150, Ciudad Victoria, Tamaulipas, Mexico; DOB 28 Feb 1974; Alt. DOB 01 Mar 1974; Citizen Mexico; Nationality Mexico; (INDIVIDUAL) [SDNTK]

23. REYES ENRIQUEZ, Luis, Mexico; DOB 21 Jun 1973; POB Veracruz; Alt. POB Molango de Escamilla, Hidalgo; Citizen Mexico; Nationality Mexico; C.U.R.P. REEL730621HVZYNS07 (Mexico); (INDIVIDUAL) [SDNTK]

24. ESTRADA GONZALEZ, Eduardo, Mexico; DOB 01 May 1974; POB Tamaulipas; Citizen Mexico; Nationality Mexico; C.U.R.P. EAGE740501HTSSND02 (Mexico); R.F.C. EAGE740501 (Mexico); (INDIVIDUAL) [SDNTK]

25. MELLADO CRUZ, Galdino (a.k.a. MELLADO CRUZ, Galindo; a.k.a. GALINDO MELLADO, Cruz; a.k.a. “El Mellado”); Calle Llano Grande, Tampico Alto, Veracruz C.P. 92040, Mexico; DOB 18 Apr 1973; POB Tampico, Veracruz; Citizen Mexico; Nationality Mexico; C.U.R.P. MECG730418HVZLRL05 (Mexico); R.F.C. MECC730418 (Mexico); (INDIVIDUAL) [SDNTK]

26. GERESANO ESCRIBANO, Gonzalo (a.k.a. “GERESANO ESCRINAO”; a.k.a. “JEREZANO ESCRIBANO”; a.k.a. “CERESANO ESCRIBANO”; a.k.a. “GERESANO ESCRIBAJO”); Mexico; DOB 28 Feb 1974; Citizen Mexico; Nationality Mexico; R.F.C. GEEG740228 (Mexico); (INDIVIDUAL) [SDNTK]

27. CARBAJAL REYES, Ramon Ulises (a.k.a. CARVAJAL REYES, Ramon Ulises; a.k.a. CARRAJAL REYES, Ramon Ulises); Calle Michoacan No. 42, Int. 02, Zono Central, Doloros Hidalgo, Guanajuato, Mexico; DOB 22 Nov 1974; Alt. DOB 23 Dec 1974; POB Guanajuato, Mexico; Alt. POB Salamanca, Guanajuato, Mexico; Citizen Mexico; Nationality Mexico; C.U.R.P. CARR741122HGTRYM01 (Mexico); R.F.C. CARR741122 (Mexico); Cartilla de Servicio Militar Nacional B-8134996 (Mexico); C.U.I.P. CARR741122H11270693 (Mexico); (INDIVIDUAL) [SDNTK]

28. ORTEGA GALICIA, Ismael Marino (a.k.a. ORTEGA GALICIA, Israel Marino); Calle Mariano Matamoros, No. 58, Centro, Col. San Gabriel Chilac, Puebla, Mexico; Calle Sagitario y Lactea No. 3085, Col. Las Palmas, entre Lactea y Av. La Paz, Ciudad Victoria, Tamaulipas, Mexico; DOB 31 May 1974; POB San Gabriel Chilac, Puebla; Citizen Mexico; Nationality Mexico; C.U.R.P. OEGI740531HPLRLS07 (Mexico); R.F.C. OEGI740531 (Mexico); Electoral Registry No. ORGLIS740531121H100 (Mexico); (INDIVIDUAL) [SDNTK]

29. VERA CALVA, Carlos, Calle E. Zapata No. 2, Col. Plan de Ayala, Tihuatlan, Veracruz, Mexico; DOB 10 Jul 1970; POB Poza Rica de Hidalgo, Veracruz; Alt. POB Tuxpam, Veracruz; Citizen Mexico; Nationality Mexico; R.F.C. VECC700710 (Mexico); Cartilla de Servicio Militar Nacional B0759939 (Mexico); C.U.R.P. VECC700710HVZRLR13 (Mexico); (INDIVIDUAL) [SDNTK]

30. GONZALEZ CASTRO, Gustavo, Calle Avalo No. 28, Colonia Las Lomas, Tuxpan, Veracruz C.P. 92800, Mexico; DOB 01 Jul 1973; POB Tuxpam, Veracruz; Citizen Mexico; Nationality Mexico; C.U.R.P. GOCG730701HVZNSS08 (Mexico); R.F.C. GOCG730701 (Mexico); Cartilla de Servicio Militar Nacional B8765616 (Mexico); (INDIVIDUAL) [SDNTK]

31. GUERRA RAMIREZ, Rogelio, Mexico; DOB 21 Aug 1973; POB Chiapas; Citizen Mexico; Nationality Mexico; C.U.R.P. GURR730821HCLRMG (Mexico); Cartilla de Servicio Militar Nacional B7384371 (Mexico); R.F.C. GURR730821 (Mexico); C.U.R.P. GURR730821HCLRMG01 (Mexico); C.U.R.P. GURR730821HCLRMG01 (Mexico); (INDIVIDUAL) [SDNTK]

32. PEREZ MANCILLA, Alejandro, Calle Ninos Heroes No. 143, entre Miguel Hidalgo y Jose Maria Morelos, Saltillo, Coahuila C.P. 25060, Mexico; DOB 23 Dec 1974; POB Reynosa, Tamaulipas; Citizen Mexico; Nationality Mexico; C.U.R.P. PEMA741223HTSRNL06 (Mexico); Electoral Registry No. PRMNAL74122328H701 (Mexico); Cartilla de Servicio Militar Nacional B9764183 (Mexico); R.F.C. PEMA741223 (Mexico); (INDIVIDUAL) [SDNTK]

33. SOTO PARRA, Miguel Angel (a.k.a. SOTO PARUA, Miguel Angel); Mexico; DOB 13 Sep 1972; POB Puebla, Puebla; Citizen Mexico; Nationality Mexico; C.U.R.P. SOPM720913HPLTRG03 (Mexico); Cartilla de Servicio Militar Nacional C26300 (Mexico); R.F.C. SOPM720913 (Mexico); (INDIVIDUAL) [SDNTK]

34. MURO GONZALEZ, Proceso Arturo, Calle Gustavo Garmendia No. 1850, Colonia Hidalgo, Culiacan, Sinaloa, Mexico; DOB 16 May 1973; POB Cuiliacan, Sinaloa; Citizen Mexico; Nationality Mexico; C.U.R.P. MUGP730516HSLRNR04 (Mexico); Cartilla de Servicio Militar Nacional 607092 (Mexico); Electoral Registry No. MRGNPR73051625H400 (Mexico); (INDIVIDUAL) [SDNTK]

35. VALENZUELA ZUNIGA, Ruben Alejandro, Privada Garcia Conde No. 107, Int. 06, Col. San Felipe, Chihuahua, Chihuaha, Mexico; DOB 16 Dec 1972; POB Torreon, Coahuila; Citizen Mexico; Nationality Mexico; Electoral Registry No. VLZGRB72121605H300 (Mexico); Cartilla de Servicio Militar Nacional B-8193135 (Mexico); R.F.C. VAZR721216 (Mexico); (INDIVIDUAL) [SDNTK]

36. LOPEZ TREJO, Fernando, Calle Abasolo No. 15, Colonia Miguel Aleman, Comitan, Chiapas C.P. 3000, Mexico; DOB 11 Apr 1971; POB Tamaulipas; Citizen Mexico; Nationality Mexico; Cartilla de Servicio Militar Nacional B7439509 (Mexico); C.U.R.P. LOTF710412HTSPRR03 (Mexico); (INDIVIDUAL) [SDNTK]

37. MATEO LAUREANO, Ignacio, Calle Mariano Matamoros No. 58, Centro, Colonia San Gabriel Chilac, Puebla, Mexico; Calle Sagitaro y Lactea No. 3085, Colonia Las Palmas, entre Lactea y Av. La Paz, Ciudad Victoria, Tamaulipas, Mexico; DOB 31 Jul 1977; POB Guerrero; Alt. POB Tecpan de Galeana, Guerrero; Citizen Mexico; Nationality Mexico; C.U.R.P. MALI770731HGRTRG07 (Mexico); Cartilla de Servicio Militar Nacional C2606947 (Mexico); (INDIVIDUAL) [SDNTK]

38. TORRES SOSA, Benjamin, Avenida Insurgentes Centro No. 60, No. Int. 1, Colonia Tabacalera, Delegacion Cuauhtemoc, Mexico, Distrito Federal C.P. 06030, Mexico; DOB 31 Mar 1969; POB Guadalupe, Zacatecas; Citizen Mexico; Nationality Mexico; C.U.R.P. TOSB690331HZSRSN06 (Mexico); Cartilla de Servicio Militar Nacional B4494067 (Mexico); Electoral Registry No. TRSSBN69033132H900 (Mexico); R.F.C. TOSB690331 (Mexico); (INDIVIDUAL) [SDNTK]

39. HERNANDEZ BARRON, Raul, Calle Congregacion Troncones y Potrerillos, Colonia Congrecaciones Troncones y Potrerillos, Coatzintla, Veracruz C.P. 93160, Mexico; DOB 04 Feb 1977; Alt. DOB 16 Oct 1980; POB Poza Rica de Hidalgo, Veracruz; Alt. POB Coatzintla, Veracruz; Alt. POB Veracruz, Mexico; Citizen Mexico; Nationality Mexico; C.U.R.P. HEBR770204HVZRRL02 (Mexico); Cartilla de Servicio Militar Nacional C-528381 (Mexico); C.U.I.P. HEBR770204H30271467 (Mexico); Electoral Registry No. HRBRRL77020430H900 (Mexico); (INDIVIDUAL) [SDNTK]

40. DAVILA LOPEZ, Jose Ramon (a.k.a. DAVILA LOPEZ, Juan Ramon; a.k.a. TORRES HERNANDEZ, Antonio; a.k.a. RUBIO CONDE, David); Mexico; Calle 22, Valle Hermoso, Tamaulipas, Mexico; DOB 31 Aug 1978; Alt. DOB 11 Mar 1979; POB Tijuana, Baja, Mexico; Citizen Mexico; Nationality Mexico; (INDIVIDUAL) [SDNTK]

41. IBARRA YEPIS, Prisciliano (a.k.a. IBARRA YEPIZ, Prisciliano; a.k.a. IBARRA YEPIS, Priciliano; a.k.a. YBARRA YEPIS, Priciliano); Mexico; DOB 04 Jan 1977; POB Sonora, Mexico; Citizen Mexico; Nationality Mexico; C.U.R.P. IAYP770104HSRBPR00 (Mexico); (INDIVIDUAL) [SDNTK]

42. LORMENDEZ PITALUA, Omar (a.k.a. LARMENDEZ PITALUA, Omar; a.k.a. LORMENDEZ PATALUA, Omar; a.k.a. LORMENDES PITALUA, Omar); Mexico; DOB 18 Jan 1972; POB Lecheria Tultitlan, Mexico; Alt. POB Tlalnepantla De Baz, Mexico, Mexico; Citizen Mexico; Nationality Mexico; C.U.R.P. LOPO720118HMCRTM01 (Mexico); (INDIVIDUAL) [SDNTK]

43. LECHUGA LICONA, Alfonso, Mexico; DOB 14 Jan 1971; POB San Bartolo Tutotepec, Hidalgo, Mexico; Citizen Mexico; Nationality Mexico; C.U.R.P. LELA710114HHGCCL08 (Mexico); (INDIVIDUAL) [SDNTK]

44. VARGAS GARCIA, Nabor, Mexico; DOB 12 Jul 1976; POB Pachuca, Hidalgo, Mexico; Alt. POB Pachuca De Soto, Hidalgo, Mexico; Citizen Mexico; Nationality Mexico; C.U.R.P. VAGN760712HHGRRB06 (Mexico); (INDIVIDUAL) [SDNTK]

45. GALARZA CORONADO, Jose Antonio (a.k.a. GALARZA CORONADO, Antonio); Privada Los Ebanos 105, Fraccionamiento Pedregal, San Nicholas de Los Garza, Nuevo Leon, Mexico; Espana Street, Col. Buena Vista, Matamoros, Tamaulipas, Mexico; Nuevo Laredo, Tamaulipas, Mexico; DOB 13 Nov 1960; POB Matamoros, Tamaulipas, Mexico; Citizen Mexico; Nationality Mexico; C.U.R.P. GACA601113HTSLRN00 (Mexico); (INDIVIDUAL) [SDNTK]

46. FLORES SOTO, Mario (a.k.a. FLORES SOTO, Mario Alberto); Privada A2 28, Colonia Infonavit, Nuevo Laredo, Tamaulipas, Mexico; Calle Tierra del Soconusco 252, Nuevo Laredo, Tamaulipas, Mexico; DOB 31 Oct 1967; POB Durango; Citizen Mexico; Nationality Mexico; C.U.R.P. FOSM671031HDGLTR03 (Mexico); (INDIVIDUAL) [SDNTK]

47. ROMO LOPEZ, Martin (a.k.a. ROMO LOPEZ, Martin de Jesus); Piedras Negras, Coahuila, Mexico; DOB 02 Jun 1964; POB Tabasco, Zacatecas; Citizen Mexico; Nationality Mexico; C.U.R.P. ROLM640602HZSMPR05 (Mexico); (INDIVIDUAL) [SDNTK]

48. ACOSTA IBARRA, Ruben, Calle Siete de Abril No. 5, Colonia Hidalgo, Hidalgo C.P. 42500, Mexico; DOB 20 Oct 1967; POB Acatlan, Hidalgo; Citizen Mexico; Nationality Mexico; C.U.R.P. AOIR671020HHGCBB02 (Mexico); Cartilla de Servicio Militar Nacional B4111940 (Mexico); Electoral Registry No. ACIBRB67102013H701 (Mexico); C.U.I.P. AOIR671020H1374898 (Mexico); (INDIVIDUAL) [SDNTK]

49. SANCHEZ ESTEBAN, Alvaro, Mexico; DOB 04 Feb 1974; Citizen Mexico; Nationality Mexico; RFC SAEA740214 (Mexico); (INDIVIDUAL) [SDNTK]

50. CASTREJON PENA, Victor Nazario, Mexico; DOB 05 May 1972; POB Iguala, Guerrero, Mexico; Citizen Mexico; Nationality Mexico; (INDIVIDUAL) [SDNTK]

51. ROSALES MENDOZA, Carlos Alberto (a.k.a. ROSALES MENDOZA, Carlos); Michoacan, Mexico; Petacalco, Guerrero, Mexico; DOB 12 Feb 1963; POB Guerrero, Michoacan; Alt. POB El Naranjito, La Union, Guerrero, Mexico; Citizen Mexico; Nationality Mexico; C.U.R.P. ROMC630212HGRSNR09 (Mexico); (INDIVIDUAL) [SDNTK]

52. MENDOZA CONTRERAS, Cipriano (a.k.a. RIVERA TORRES, Javier); Calle Venustiano Carranza No. 904, Col. Josefa Ortiz de Dominguez, Apatzingan, Michoacan, Mexico; DOB 25 Dec 1969; POB Tepalcatepec, Michoacan; Citizen Mexico; Nationality Mexico; C.U.R.P. MECC691225HMNNNP01 (Mexico); (INDIVIDUAL) [SDNTK]

53. GONZALEZ RODRIGUEZ, Dimas, Mexico; DOB 25 Jul 1978; POB Tamaulipas, Mexico; Citizen Mexico; Nationality Mexico; C.U.R.P. GORD780725HTSNDM07 (Mexico); (INDIVIDUAL) [SDNTK]

54. VELASQUEZ CABALLERO, Juan Daniel (a.k.a. VELASQUEZ CABALLERO, Daniel; a.k.a. VELAZQUEZ CABALLERO, Juan Daniel); Colonia Infonavit, Nuevo Laredo, Tamaulipas, Mexico; Colonia Buena Vista, Nuevo Laredo, Tamaulipas, Mexico; Calle Coahuila No. 5958, Colonia Las Torres, Seccion 864, Nuevo Laredo, Tamaulipas, Mexico; DOB 26 Nov 1976; Alt. DOB 1968; POB Tamaulipas, Mexico; Citizen Mexico; Nationality Mexico; Electoral Registry No. VLCBJN73112628H700 (Mexico); (INDIVIDUAL) [SDNTK]

Dated: March 24, 2010.
Barbara C. Hammerle,
Deputy Director, Office of Foreign Assets Control.

[FR Doc. 2010-6986 Filed 3-29-10; 8:45 am]

BILLING CODE 4811-AL-P